DEPARTMENT OF COMMERCE

International Trade Administration

Trade Mission to the Port of Veracruz

AGENCY: International Trade Administration, Department of Commerce.

ACTION: Notice.

Mission Description

The United States Department of Commerce, International Trade Administration, U.S. and Foreign Commercial Service (CS) is organizing an executive-led trade mission to the Port of Veracruz, Mexico, for December 6-9, 2010. This mission is intended to include representatives of a variety of U.S. industry and service providers, particularly those in the transportation, security, and infrastructure industries. The mission will introduce mission participants to end-users and prospective partners whose needs and capabilities are targeted to the respective U.S. participant's strengths. Participating in an official U.S. industry delegation, rather than traveling to the Port of Veracruz independently, will enhance the companies' ability to secure meetings with the port authorities and the private terminal operators, and provide an opportunity to them to tour the port facilities. The mission will include meetings with Port of Veracruz operators, industry groups, and local companies in Veracruz interested in partnering with U.S. companies.

Commercial Setting

The Port of Veracruz is undergoing an expansion project to increase its efficiency and productivity. The project will take about 15-20 years to be completed, and will require investments of over US $1.2 billion. This includes the construction of new port facilities in the Vergara Bay, just next to the current port location. This project was listed as a strategic priority in the National Infrastructure Program announced by President Calderon in July 2007.

In the last 2-3 years, the Port of Veracruz has invested in modifying the current facilities to expand general cargo and container capacity, and to increase efficiency in all port activities, including new facilities for customs and modern gamma ray inspection and detection equipment, security and surveillance systems, expanding berths, building a 13-kilometer bypass for the City of Veracruz, improving railroad access, improving intra-port transit roads and remodeling the administration building. At the same time, private operators have invested in modern equipment and IT systems for their facilities.

The Port of Veracruz Integral Administration (APIVER) recently inaugurated an industrial and logistical area of 307 hectares, located 2.5 kilometers north of the port's precinct. About 173 hectares will be dedicated to building nine logistics centers for containers, agricultural and bulk minerals, general cargo, intermodal transfer, an automotive logistics center, and related services. This facility has an estimated cost of US $600 million.

Other ongoing or upcoming projects included in the port expansion include:

—Building new yards and wharfs for containers, automotive products and grains;

—Building a new wharf for tourist use;

—Modernizing the surrounding infrastructure including roads, rail, electrical, hydraulic, and sanitary systems, and IT and telecommunications systems;

—Increasing the capacity and efficiency of the port itself through renovated drainage, electrical, and water systems;

—Increasing vehicle handling capacity;

—Developing a new container terminal for post-Panama ships;

—Continuous dredging in the basin, channels and wharves to maintain an adequate depth.

The APIVER will also invest over US $50 million in port improvement including the construction of internal railways during 2010. Private port operators also have their own projects for improving facilities and efficiency. Some are waiting for the port expansion to obtain new areas in which to expand their own facilities.

Several products and services expected to have high demand from port authorities and operators include:

—CCTV surveillance systems;

—Consulting services for: Efficiency in logistics systems, civil protection and safety, financial and statistical planning, waste collection and management, hazardous materials handling, maritime inspection, operations control, designing of refrigerated warehouses, etc.;

—Corrosion detection/protection equipment;

—Corrosion protection systems for cars and machinery parked at the port;

—Digital signature systems;

—Equipment for refrigerated warehouses;

—Machinery/equipment maintenance systems;

—Outdoor lighting systems;

—Pollution control systems;

—Pneumatic delivery systems;

—Software for inventory tracking;

—Used mobile railcar movers or Trackmobile;

—Waste and toxic waste management systems.

Special Opportunities

The APIVER is currently building a 19-kilometer internal rail track that will be used by the two railroad companies servicing the port, Kansas City Southern Mexico and Ferromex. APIVER expects to issue a tender to grant a concession to operate this internal railway in late 2010. Companies interested in getting this concession should start looking for information on how to participate in the bid.

The State of Veracruz Government is currently building a sports marina that will include docks for different-sized ships, a club house, nautical services, a hotel and tourist services. The marina is expected to be opened early 2011, and a concession will be granted to a private operator.

Mission Goals

The short term goals of the Trade Mission to the Port of Veracruz are (1) To introduce U.S. companies to potential end-users, joint-venture partners and other industry representatives in the Port of Veracruz, and (2) to introduce U.S. companies to the industry and government officials in Mexico City and the Port of Veracruz to learn about various program opportunities in the port industry.

Mission Scenario

Upon arrival in Mexico City, the U.S. mission members will be invited to a networking welcome reception at the residence of the U.S. Ambassador, to meet key government and industry contacts in the Mexico City area important to ports infrastructure development at the national level. Participants will then depart to the Port of Veracruz, for a two-day program that will include technical visits with the private port operators and industrial groups in Veracruz, and a site visit to the Port of Veracruz facilities and to the site where the expansion project will be developed. During the meetings, participating companies will have the opportunity to make a 5-8 minute presentation of their products and services and later meet one-on-one with interested clients/partners.

Matchmaking efforts will involve local companies in Veracruz interested in partnering with the U.S. firms. U.S. participants will be counseled before and after the mission by the USCS Mexico City officers and commercial specialists. The following items are included in the price of the trade mission:

—Pre-travel webinar briefing, covering Mexican business practices and security.

—Welcome kit with general information about the State of Veracruz.

—Welcome reception at Ambassador's residence.

—Transportation between Mexico City and Veracruz, by bus.

—Lunch with Veracruz industry leaders.

—Networking reception with industry contacts.

—Breakfast with Port of Veracruz operators.

—Technical visit to the Port of Veracruz facilities.

—Reception with State of Veracruz Government officers, port operators and industry contacts.

—Pre-scheduled meetings with potential partners, distributors, end users, or local industry contacts in the Port of Veracruz.

Proposed Timetable

The mission program will begin on the evening of December 6, 2010 and continue through the evening of December 9, 2010.

December 6—Mexico City

Welcome Reception at Ambassador's Residence

December 7—Mexico City-Port of Veracruz

Breakfast on their own

Trip to the Port of Veracruz

Lunch with industry group leaders

Meetings with industry groups

Networking reception with key industry contacts

December 8—Port of Veracruz

Breakfast meeting with Port of Veracruz operators

Technical visit to the Port of Veracruz

Lunch on their own

Free time for further meetings with interested parties

Reception with Government officers, port operators and industry contacts

December 9—Port of Veracruz

Breakfast on their own

One-on-one meetings with potential distributors/representatives

Lunch on their own

Return trip to Mexico City

Participation Requirements

All parties interested in participating in the Trade Mission to the Port of Veracruz must complete and submit an application for consideration by U.S. Department of Commerce. All applicants will be evaluated on their ability to meet certain conditions and to satisfy the selection criteria as outlined below. This mission has a goal of a minimum of 12 and a maximum of 15 companies to be selected to participate in the mission from the applicant pool. U.S. companies already doing business in Mexico as well as U.S. companies seeking to enter the market for the first time are encouraged to apply.

Fees and Expenses

After a company has been selected to participate on the mission, a payment to U.S. Department of Commerce in the form of a participation fee is required. The participation fee will be US $3,100 for large firms and $2,500 for a small or medium-sized enterprise (SME) ¹ or small organization, which will cover one representative. The fee for each additional firm representative (large firm or SME) is $350. Expenses for travel to Mexico City, lodging, most meals, and incidentals will be the responsibility of each mission participant. However, the roundtrip bus from Mexico City to Veracruz will be covered by the participation fee.

¹ An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria:

• Suitability of a company's products or services to the mission's goals

• Applicant's potential for business in Mexico, including likelihood of exports resulting from the trade mission

• Consistency of the applicant's goals and objectives with the stated scope of the trade mission (i.e., the sectors indicated in the mission description)

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, the Maritime Technologies Team, industry trade associations and other multiplier groups, and publicity at industry meetings, symposia, conferences, and trade shows.

Recruitment for the mission will begin immediately and conclude no later than October 15, 2010. CS Mexico City will review all applications immediately after the deadline. We will inform applicants of selection decisions as soon as possible after October 15, 2010. Applications received after that date will be considered only if space and scheduling constraints permit.

Contacts

U.S. Commercial Service Mexico

Contacts:

Ms. Dinah McDougall, U.S. Commercial Service Mexico, Tel: (011-52-55) 5140-2620, dinah.mcdougall@trade.gov.

Ms. Alicia Herrera, U.S. Commercial Service Mexico, Tel: (011-52-55) 5140-2629, Alicia.herrera@trade.gov.

Ryan Kane,
Global Trade Programs, Commercial Service Trade Missions Program.

[FR Doc. 2010-20535 Filed 8-18-10; 8:45 am]

BILLING CODE 3510-DS-P